ENVIRONMENTAL PROTECTION AGENCY

[FRL-7808-6]

Carolina Steel Drum Superfund Site; Notice of Proposed Settlement

AGENCY: Environmental Protection Agency (EPA).

ACTION: Notice of proposed settlements.

SUMMARY: The United States Environmental Protection Agency is proposing to enter into two settlements for the partial reimbursement of past response costs with Rutland Plastics Technologies, Inc. and West Drum Company pursuant to section 122 of the Comprehensive Environmental Response, Compensation, and Liability Act (CERCLA), 42 U.S.C. 9622(h)(1) concerning the Carolina Steel Drum Superfund Site (Site) located in Rock Hill, York County, South Carolina. EPA will consider public comments on the proposed settlements until October 1, 2004. EPA may withdraw from or modify the proposed settlements should such comments disclose facts or considerations which indicate the proposed settlements are inappropriate, improper or inadequate. Copies of the proposed settlements are available from: Ms. Paula V. Batchelor, U.S. EPA, Region 4, (WMD-SEIMB), 61 Forsyth Street, SW., Atlanta, Georgia 30303, (404) 562-8887, Batchelor.Paula@EPA.Gov.

Written comments may be submitted to Ms. Batchelor within 30 calendar days of the date of this publication.

Dated: April 30, 2004.
Rosalind H. Brown,
Chief, Superfund Enforcement & Information Management Branch, Waste Management Division.

[FR Doc. 04-19922 Filed 8-31-04; 8:45 am]

BILLING CODE 6560-50-P